DEPARTMENT OF THE INTERIOR

Minerals Management Service

Notice and Agenda for Meeting of the Royalty Policy Committee

AGENCY: Minerals Management Service (MMS), Interior.

ACTION: Notice of meeting.

SUMMARY: At the first meeting of the newly chartered Royalty Policy Committee (RPC), a chairperson, vice-chairperson, and parliamentarian will be elected and bylaws for meeting conduct will be established. Agenda items will include remarks from the Director, MMS, and the Associate Director, Minerals Revenue Management (MRM), as well as updates on Financial Management, Compliance and Asset Management, Royalty in Kind, and pertinent legislation. The RPC will also hear special reports from the Inter-Association Royalty Strategies Task Force and the Western Governors' Association. The RPC membership includes representatives from states, Indian tribes and allottee organizations, minerals industry associations, the general public, and other Federal departments.

DATE: Thursday, October 28, 2004, from 8:30 a.m. to 5 p.m., mountain daylight time.

ADDRESS: Sheraton Denver West Hotel, 360 Union Boulevard, Lakewood, CO 80228, telephone number (303) 987-2000.

FOR FURTHER INFORMATION CONTACT: Gary Fields, Minerals Revenue Management, Minerals Management Service, P.O. Box 25165, MS 300B2, Denver, CO 80225-0165, telephone number (303) 231-3102, fax number (303) 231-3780, e-mail Gary.Fields@mms.gov.

SUPPLEMENTARY INFORMATION: The Department of the Interior's MMS created three charter committees under the Federal Advisory Committee Act to advise the Secretary and top department officials on minerals policy and operational issues. The RPC, the Outer Continental Shelf (OCS) Policy Committee, and the OCS Scientific Committee will fulfill the formal advisory functions previously performed by the Minerals Management Advisory Board, which has been disbanded. The RPC will provide advice related to the performance of discretionary functions under the laws governing the Department's management of Federal and Indian mineral leases and revenues. The RPC will review and comment on revenue management and other mineral-related policies and provide a forum to convey views representative of mineral lessees, operators, revenue payors, revenue recipients, governmental agencies, and the interested public. The location and dates of future meetings will be published in the Federal Register and posted on our Internet site at http://www.mrm.mms.gov/Laws_R_D/RoyPC/RoyPC.htm. Meetings will be open to the public without registration in advance on a space-available basis. The public may make statements during the meetings, to the extent time permits, and file written statements with the RPC for its consideration. Copies of these written statements should be submitted to Mr. Fields. Within 2 weeks following the conclusion of each meeting, the minutes will be available for public inspection and copying at our offices in Building 85 on the Denver Federal Center in Lakewood, CO. The minutes will also be posted on our Internet site at http://www.mrm.mms.gov/Laws_R_D/RoyPC/RoyPC.htm. These meetings are conducted under the authority of the Federal Advisory Committee Act (Pub. L. 92-463, 5 U.S.C., Appendix 1) and the Office of Management and Budget (Circular No. A-63, revised).

Dated: September 16, 2004.
Lucy Querques Denett,
Associate Director, Minerals Revenue Management.

[FR Doc. 04-21595 Filed 9-24-04; 8:45 am]

BILLING CODE 4310-MR-P